DEPARTMENT OF LABOR

Office of the Secretary

Submission for OMB Review: Comment Request

October 19, 2005.

The Department of Labor (DOL) has submitted the following public information collection request (ICR) to the Office of Management and Budget (OMB) for review and approval in accordance with the Paperwork Reduction Act of 1995 (Pub. L. 104-13, 44 U.S.C. chapter 35). A copy of this ICR, with applicable supporting documentation, may be obtained by contacting Darrin King on 202-693-4129 (this is not a toll-free number) or e-mail: king.darrin@dol.gov.

Comments should be sent to Office of Information and Regulatory Affairs, Attn: OMB Desk Officer for the Office of Disability Employment Policy, Office of Management and Budget, Room 10235, Washington, DC 20503, 202-395-7316 (this is not a toll-free number), within 30 days from the date of this publication in the Federal Register.

The OMB is particularly interested in comments which:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submission of responses.

Agency: Office of Disability Employment Policy.

Type of Review: Extension of currently approved collection.

Title: Solicitation of Nominations for the Department of Labor's New Freedom Initiative Award.

OMB Number: 1230-0002.

Frequency: Annually.

Type of Response: Reporting.

Affected Public: Business or other for-profit; not-for-profit institutions; individuals or households; Federal Government; and State, local, or tribal government.

Number of Respondents: 100.

Number of Annual Responses: 100.

Estimated Time per Response: 10 hours.

Total Burden Hours: 1,000.

Total Annualized capital/startup costs: $0.

Total Annual Costs (operating/maintaining systems or purchasing services): $0.

Description: The Office of Disability Employment Policy (ODEP) within the Department of Labor was created under Public Law 106-554, the Consolidated Appropriations Act of 2001 (enacting H.R. 5656, see Title I, “Departmental Management”) 29 U.S.C. 551 et seq.; 5 U.S.C. 301. ODEP was established to bring a heightened and permanent focus on increasing the employment of persons with disabilities. In carrying out the mission of ODEP, this collection of information (solicitation of nominations to receive an award) is planned to honor individuals, businesses and non-profit organizations which have been exemplary in furthering the employment-related objectives of the New Freedom Initiative.

Dated: October 19, 2005.
Darrin A. King,
Acting Departmental Clearance Officer.

[FR Doc. 05-21276 Filed 10-24-05; 8:45 am]

BILLING CODE 4510-23-P